DEPARTMENT OF TRANSPORTATION

Federal Aviation Administration

14 CFR Part 71

[Docket No. FAA-2018-0062; Airspace Docket No. 18-ASO-3]

RIN 2120-AA66

Amendment of Class D and Class E Airspace; Pensacola, FL, and Establishment of Class E Airspace; Milton, FL

AGENCY: Federal Aviation Administration (FAA), DOT.

ACTION: Final rule.

SUMMARY: This action amends Class D airspace and Class E airspace extending upward from 700 feet above the surface at Choctaw Naval Outlying Field (NOLF), Milton, FL, by changing the city associated with the airport name in the above airspace classes and adjusting the geographic coordinates of the airport and the Santa Rosa TACAN navigation aid to match the FAA's aeronautical database. Additionally, Class E surface airspace is established at Choctaw NOLF for the safety of aircraft landing and departing the airport when the air traffic control tower is closed. Also, an editorial change is made to the Class D airspace legal description replacing “Airport/Facility Directory” with the term “Chart Supplement”. This action enhances the safety and management of instrument flight rules (IFR) operations at this airport.

DATES: Effective 0901 UTC, November 8, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class E airspace, and amends Class D and Class E airspace at Choctaw NOLF, Milton, FL, to support IFR operations at the airport.

History

The FAA published a notice of proposed rulemaking (NPRM in the Federal Register (83 FR 9242, March 5, 2018) for Docket No. FAA-2018-0062 to amend Class D airspace and Class E airspace extending upward from 700 feet above the surface at Choctaw NOLF, Milton, FL, and establish Class E surface area airspace at Choctaw NOLF, Milton, FL.

Interested parties were invited to participate in this rulemaking effort by submitting written comments on the proposal to the FAA. One comment was received supporting the proposal.

Class D and E airspace designations are published in paragraph 5000, 6002, and 6005, respectively, of FAA Order 7400.11B dated August 3, 2017, and effective September 15, 2017, which is incorporated by reference in 14 CFR part 71.1. The Class D and E airspace designations listed in this document will be published subsequently in the Order.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14 Code of Federal Regulations (14 CFR) part 71 by:

Amending Class D airspace at Choctaw NOLF, Milton, FL, by adjusting the geographic coordinates of the airport and the Santa Rosa TACAN navigation aid to be in concert with the FAA's aeronautical database. Also, this action makes an editorial change in the airspace designation replacing the city associated with the airport name from Pensacola, to Milton, to comply with a change to FAA Order 7400.2L, Procedures for Handling Airspace Matters. Additionally, this action replaces the outdated term “Airport/Facility Directory” with the term “Chart Supplement” in the airspace legal description;

Establishing Class E surface area airspace at Choctaw NOLF, Milton, FL, within a 2.5-mile radius of Choctaw NOLF, with an extension from the 2.5-mile radius to 10.5 miles south of the Santa Rosa TACAN, for the safety of aircraft landing and departing the airport after the air traffic control tower closes; and Amending Class E airspace extending upward from 700 feet above the surface at Choctaw NOLF, Milton, FL, by adjusting the geographic coordinates of the airport to be in concert with the FAA's aeronautical database. This action also makes an editorial change by removing the airport name, Choctaw Outlying Field, from the airspace designation, which now becomes Milton, FL.

This action amends the geographic coordinates of these airports and the Keesler TACAN navigation aid to be in concert with the FAA's aeronautical database.

Class D and Class E airspace designations are published in Paragraph 5000, 6002, and 6005, respectively, of FAA Order 7400.11B, dated August 3, 2017, and effective September 15, 2017, which is incorporated by reference in 14 CFR 71.1. The Class D and E airspace designations listed in this document will be published subsequently in the Order.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

ASO FL D Milton, FL [Amended]

Choctaw NOLF, FL

(Lat. 30°30′25″ N, long. 86°57′35″ W)

Santa Rosa TACAN

(Lat. 30°36′55″ N, long. 86°56′15″ W)

That airspace extending upward from the surface to and including 2,600 feet MSL within a 2.5-mile radius of Choctaw NOLF and within 1.5 miles each side of the Santa Rosa TACAN 188° radial, extending from the 2.5-mile radius to 10.5 miles south of the TACAN; excluding that airspace within Restricted Area R-2915A. This Class D airspace area is effective during the specific dates and times established by a Notice to Airmen. The effective date and time will thereafter be continuously published in the Chart Supplement.

Paragraph 6002 Class E Surface Area Airspace.

* * * * *

ASO FL E2 Milton, FL [New]

Choctaw NOLF, FL

(Lat. 30°30′25″ N, long. 86°57′35″ W)

Santa Rosa TACAN

(Lat. 30°36′55″ N, long. 86°56′15″ W)

That airspace extending upward from the surface within a 2.5-mile radius of Choctaw NOLF and within 1.5 miles each side of the Santa Rosa TACAN 188° radial, extending from the 2.5-mile radius to 10.5 miles south of the TACAN; excluding that airspace within Restricted Area R-2915A. This Class E airspace area is effective during the specific dates and times established by a Notice to Airmen. The effective date and time will thereafter be continuously published in the Chart Supplement.

Paragraph 6005 Class E Airspace Areas Extending Upward From 700 Feet or More Above the Surface of the Earth.

* * * * *

ASO FL E5 Milton, FL [Amended]

Choctaw NOLF, FL

(Lat. 30°30′25″ N, long. 86°57′35″ W)

That airspace extending upward from 700 feet above the surface within a 6.7-mile radius of Choctaw NOLF.

Issued in College Park, Georgia, on August 20, 2018.
Ryan W. Almasy,
Manager Operations Support Group, Eastern Service Center, Air Traffic Organization.

[FR Doc. 2018-18644 Filed 8-28-18; 8:45 am]

BILLING CODE 4910-13-P